DEPARTMENT OF THE TREASURY

Submission for OMB Review; Comment Request

March 23, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 1, 2000, to be assured of consideration.

Internal Revenue Service (IRS)

OMB Number: 1545-0013.

Form Number: IRS Form 56.

Type of Review: Extension.

Title: Notice Concerning Fiduciary Relationship.

Description: Form 56 is used to inform the IRS that a person is acting for another person in a fiduciary capacity so that the IRS may mail tax notices to the fiduciary concerning the person for whom he/she is acting. The data is used to ensure that the fiduciary relationship is established or terminated and to mail or discontinue mailing designated tax notices to the fiduciary.

Respondents: Business or other for-profit, individuals or households.

Estimated Number of Respondents/Recordkeepers: 25,000.

Estimated Burden Hours Per Respondent/Recordkeeper:

Recordkeeping: 8 min.

Learning about the law or the form: 32 min.

Preparing the form: 46 min.

Copying, assembling, and sending the form to the IRS: 15 min.

Frequency of Response: On occasion.

Estimated Total Reporting/Recordkeeping Burden: 292,800 hours.

OMB Number: 1545-0892.

Form Number: IRS Form 8300.

Type of Review: Extension.

Title: Report of Cash Payments Over $10,000 Received in a Trade or Business.

Description: Anyone in a trade or business who, in the course of such trade or business, receives more than $10,000 in cash or foreign currency in one or more related transactions must report it to the IRS and provide a statement to the payor. Any transaction which must be reported under Title 31 on Form 4789 is exempted from reporting the same transaction on Form 8300.

Respondents: Business or other for-profit, farms, Federal Government.

Estimated Number of Respondents/Recordkeepers: 46,800.

Estimated Burden Hours per Respondent/Recordkeeper: 21 minutes.

Frequency of Response: On occasion.

Estimated Total Reporting/Recordkeeping Burden: 63,539 hours.

OMB Number: 1545-1225.

Form Number: IRS Form 5310-A.

Type of Review: Extension.

Title: Notice of Plan Merger or Consolidation, Spinoff, or Transfer of Plan Assets or Liabilities; Notice of Qualified Separate Lines of Business.

Description: Plan administrators are required to notify IRS of any plan mergers, consolidations, spinoffs, or transfer of plan assets or liabilities to another plan. Employers are required to notify IRS of separate lines of business for their deferred compensation plans. Form 5310-A is used to make these notifications.

Respondents: Business or other for-profit.

Estimated Number of Respondents/Recordkeepers: 15,000.

Estimated Burden Hours per Respondent/Recordkeeper:

| Recordkeeping | Learning about the law or the form | Preparing, copying, assembling, and sending the form to the IRS
Part I | 1hr., 26 min | 1hr., 35 min | 1hr., 41 min.
Part II | 3 hr., 50 min | 12 min | 16 min.
Part III | 4 hr., 32 min | 35 min | 42 min.

Frequency of Response: On occasion.

Estimated Total Reporting/Recordkeeping Burden: 142,800 hours.

Clearance Officer: Garrick Shear, Internal Revenue Service, Room 5244, 1111 Constitution Avenue, NW, Washington, DC 20224.

OMB Reviewer: Alexander T. Hunt, Office of Management and Budget, Room 10202, New Executive Office Building, Washington, DC 20503; (202) 395-7860.

Lois K. Holland,
Departmental Reports Management Officer.

[FR Doc. 00-7867 Filed 3-29-00; 8:45 am].

BILLING CODE 4830-01-U.